DEPARTMENT OF HEALTH AND HUMAN SERVICES

Health Resources and Services Administration

Agency Information Collection Activities: Proposed Collection; Comment Request

In compliance with the requirement for the opportunity for public comment on proposed data collection projects (section 3506(c)(2)(A) of title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, call the HRSA Reports Clearance Officer at (301) 443-1129.

Comments are invited on: (a) Whether the proposed collection of information is necessary for the proper performance of the functions of the Agency, including whether the information shall have practical utility; (b) the accuracy of the Agency's estimate of the burden of the proposed collection of information; (c) ways to enhance the quality, utility, and clarity of the information to be collected; and (d) ways to minimize the burden of the collection of information on respondents, including through the use of automated collection techniques or other forms of information technology.

Proposed Project: Bullying Benchmark Study—New

The Bullying Benchmark Study is designed to gather information from 9- to 13-year-olds and parents of 9- to 13-year-olds (parents and children from the same household will not be interviewed) that will help establish measures to evaluate the ongoing effectiveness of a Maternal and Family Health funded bullying prevention campaign.

The overall goal of the Benchmark Bullying Poll is to establish measurable benchmarks which will be used to evaluate the effectiveness of the Bullying Prevention Campaign. These include: (1) Assessment of underlying attitudes and perceptions about bullying among 9- to 13-year-olds and parents that the campaign is designed to alter; (2) level of concern about bullying among 9- to 13-year-olds and parents; (3) perceived seriousness of bullying among 9- to 13-year-old and parents; (4) level of communications about bullying between 9- to 13-year-olds and their parents, caregivers and other adults; (5) incidence of bullying and bullying prevention behavior in and out of school; and (6) prevalence of anti-bullying procedures and programs in middle schools and their impact on bullying behavior and attitudes and perceptions about bullying.

The methodology used to administer the survey will be by telephone. All prospective respondents will be contacted by phone, using random digit dialing. Respondents meeting the screening criteria will be asked to participate in a short (15 to 20 minutes) telephone interview about this issue and its affects on children in school. Permission for participation of 9- to 13-year-olds will be obtained from their parents. A total of 700 telephone interviews; 350 with children ages 9 to 13 and parents of children ages 9 to 13 will be completed.

Form | Number of respondents | Responses per respondent | Total responses | Minutes per response | Total burden hours
Telephone interviews | 700 | 1 | 700 | 15 | 175

Send comments to Susan G. Queen, PhD, HRSA Reports Clearance Officer, Room 14-45, Parklawn Building, 5600 Fishers Lane, Rockville, MD 20857. Written comments should be received within 60 days of this notice.

Dated: December 10, 2003.
Tina M. Cheatham,
Acting Director, Division of Policy Review and Coordination.

[FR Doc. 03-31050 Filed 12-16-03; 8:45 am]

BILLING CODE 4165-15-P